ENVIRONMENTAL PROTECTION AGENCY

40 CFR Parts 89, 90, 91, 94, 1048, 1051, 1065, and 1068

[AMS-FRL-7119-2]

RIN 2060-AI11

Control of Emissions from Nonroad Large Spark Ignition Engines and Recreational Engines (Marine and Land-Based); Extension of Comment Period

AGENCY: Environmental Protection Agency (EPA).

ACTION: Proposed rule; extension of comment period.

SUMMARY: The Environmental Protection Agency published in the Federal Register of October 5, 2001 a notice of proposed rulemaking proposing new emission standards for large spark-ignition engines, recreational vehicles using spark-ignition engines, and recreational marine diesel engines. This document extends the period for written comments on that notice of proposed rulemaking to January 18, 2002.

DATES: Comments: Send written comments on this proposed rule by January 18, 2002.

ADDRESSES: You may send written comments in paper form to Margaret Borushko, U.S. EPA, National Vehicle and Fuels Emission Laboratory, 2000 Traverwood, Ann Arbor, MI 48105. We must receive them by the date indicated under DATES above. You may also submit comments via e-mail to NRANPRM@epa.gov. In your correspondence, refer to Docket A-2000-01.

FOR FURTHER INFORMATION CONTACT: Margaret Borushko, U.S. EPA, National Vehicle and Fuels Emission Laboratory, 2000 Traverwood, Ann Arbor, MI 48105; Telephone (734) 214-4334; FAX: (734) 214-4816; E-mail: borushko.margaret@epa.gov. EPA hearings and comments hotline: 734-214-4370.

SUPPLEMENTARY INFORMATION: EPA published a notice of proposed rulemaking in the Federal Register of October 5, 2001 (66 FR 51098). That document included a deadline for written comments of December 19, 2001. Since that time, we have received requests for an extension of that deadline to allow additional time to review and comment on the proposed emission standards. As a result of such requests, EPA is extending the comment period on the proposed rule to January 18, 2002.

The testimony and transcripts from the public hearings and other materials have been placed in the docket since we published the proposal. Additional information will be placed in the docket as it becomes available. We therefore encourage interested parties to stay abreast of docketed materials to the extent possible.

Dated: December 11, 2001.
Robert D, Brenner,
Acting Assistant Administrator for Air and Radiation.

[FR Doc. 01-31178 Filed 12-17-01; 8:45 am]

BILLING CODE 6560-50-P